DEPARTMENT OF TRANSPORTATION

Federal Aviation Administration

14 CFR Part 71

[Docket No. FAA-2023-1296; Airspace Docket No. 23-ANE-2]

RIN 2120-AA66

Amendment of Canadian Area Navigation Routes Q-907 and Q-951, and Establishment of United States Area Navigation (RNAV) Route T-739; Eastern United States

AGENCY: Federal Aviation Administration (FAA), DOT.

ACTION: Final rule.

SUMMARY: This action amends high altitude Canadian Area Navigation routes Q-907 and Q-951; and establishes United States (U.S.) Area Navigation (RNAV) route T-739, in support of the FAA's Very High Frequency Omnidirectional Range (VOR) Minimum Operational Network (MON) Program. The purpose is to enhance the efficiency of the National Airspace System (NAS) by transitioning from ground-based navigation aids to a satellite-based navigation system.

DATES: Effective date 0901 UTC, January 25, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it will expand the availability of RNAV routing in the eastern United States and improve the efficient flow of air traffic within the NAS by lessening the dependency on ground-based navigation.

History

The FAA published a NPRM for Docket No. FAA-2023-1296 in the Federal Register (88 FR 37182; June 7, 2023), proposing to amend 2 high altitude Canadian Area Navigation routes and establish 1 U.S. RNAV route in support of transitioning the NAS from a ground-based to a satellite-based navigation system. Interested parties were invited to participate in this rulemaking effort by submitting written comments on the proposal to the FAA. No comments were received.

Differences From the NPRM

Subsequent to the NPRM, minor amendments to the geographic coordinates for the TALNO, NY, Waypoint (WP) and DANOL, ME, WP were made that do not substantively alter the proposed route. The TALNO, WP is updated from “lat. 44°59′35.12″ N, long. 074°21′35.70″ W” to “lat. 44°59′35.11″ N, long. 074°21′35.70″ W”. The DANOL, WP is updated from “lat. 45°41′49.50″ N, long. 067°48′11.94″ W” to “lat. 45°41′49.51″ N, long. 067°48′11.94″ W”.

Additionally, the DAVDA, NY, WP was added to the legal description of RNAV route T-739 as it is a turn of more than one degree, but it does not substantively alter the route.

Incorporation by Reference

High altitude Canadian Area Navigation routes are published in paragraph 2007 and United States Area Navigation Routes are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 to amend Canadian Area Navigation routes Q-907 and Q-951; and to establish United States Area Navigation route T-739, in cooperation with NAV CANADA for replacement of Computer Notification Fixes (CNF). Replacement fixes are relocated to lie on the U.S./Canada border. This action is in support of the FAA's VOR MON Program. The purpose is to enhance the efficiency of the NAS by transitioning from ground-based navigation aids to a satellite-based navigation system. The proposed changes are described below.

Q-907: Q-907 is an amended route that extends between the POSTS, MI, WP and the IMAMA, ME, WP. This amended route replaces CNFs with pronounceable WP names and moves multiple WPs to lie on the U.S./Canada border.

Q-951: Q-951 is an amended route that extends between the POSTS, MI, WP and the DANOL, ME, WP. This amended route replaces CNFs with pronounceable WP names and moves multiple WPs to lie on the U.S./Canadian border.

T-739: T-739 is a new route that extends between the KATEK, NY, WP and the DANOL, ME, WP. This route overlays a portion of VOR Federal airway V-300 from the CAMPO, ME, WP to the DANOL WP.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing high altitude Canadian Area Navigation routes Q-907 and Q-951; and establishing United States (U.S.) Area Navigation (RNAV) route T-739, to provide additional RNAV routing within the NAS in support of transitioning it from ground-based to satellite-based navigation, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 2007 Canadian Area Navigation Routes.

* * * * *

Q-907 POSTS, MI to IMAMA, ME [Amended]
POSTS, MI | WP | (Lat. 42°18′00.00″ N, long. 085°02′00.00″ W)
PADDE, MI | WP | (Lat. 42°17′09.00″ N, long. 084°28′28.00″ W)
Salem, MI (SVM) | VORTAC | (Lat. 42°24′31.11″ N, long. 083°35′38.05″ W)
GADAV, MI | WP | (Lat. 42°42′27.47″ N, long. 082°29′24.66″ W)
ATENE, ME | WP | (Lat. 46°14′15.18″ N, long. 070°15′28.92″ W)
IMAMA, ME | WP | (Lat. 46°44′09.51″ N, long. 067°47′20.94″ W)
Excluding the airspace within Canada
* * * * * * *
Q-951 POSTS, MI to DANOL, ME [Amended]
POSTS, MI | WP | (Lat. 42°18′00.00″ N, long. 085°02′00.00″ W)
PADDE, MI | WP | (Lat. 42°17′09.00″ N, long. 084°28′28.00″ W)
Salem, MI (SVM) | VORTAC | (Lat. 42°24′31.11″ N, long. 083°35′38.05″ W)
GADAV, MI | WP | (Lat. 42°42′27.47″ N, long. 082°29′24.66″ W)
KATEK, NY | WP | (Lat. 44°40′45.38″ N, long. 075°32′22.66″ W)
DAVDA, NY | WP | (Lat. 44°43′27.00″ N, long. 075°22′28.20″ W)
SSENA, NY | WP | (Lat. 44°54′51.43″ N, long. 074°43′21.31″ W)
TALNO, NY | WP | (Lat. 44°59′35.11″ N, long. 074°21′35.70″ W)
KERVO, ME | WP | (Lat. 45°26′41.75″ N, long. 070°39′02.77″ W)
DANOL, ME | WP | (Lat. 45°41′49.51″ N, long. 067°48′11.94″ W)
Excluding the airspace within Canada

* * * * *

Paragraph 6011 United States Area Navigation Routes.

* * * * *

T-739 KATEK, MD to DANOL, ME [New]
KATEK, NY | WP | (Lat. 44°40′45.38″ N, long. 075°32′22.66″ W)
DAVDA, NY | WP | (Lat. 44°43′27.00″ N, long. 075°22′28.20″ W)
SSENA, NY | WP | (Lat. 44°54′51.43″ N, long. 074°43′21.31″ W)
TALNO, NY | WP | (Lat. 44°59′35.11″ N, long. 074°21′35.70″ W)
KERVO, ME | WP | (Lat. 45°26′41.75″ N, long. 070°39′02.77″ W)
CAMPO, ME | WP | (Lat. 45°26′49.95″ N, long. 070°20′54.73″ W)
Millinocket, ME (MLT) | VOR/DME | (Lat. 45°35′12.15″ N, long. 068°30′55.67″ W)
DANOL, ME | WP | (Lat. 45°41′49.51″ N, long. 067°48′11.94″ W)
Excluding the airspace within Canada

* * * * *

Issued in Washington, DC, on November 17, 2023.
Karen L. Chiodini,
Acting Manager, Rules and Regulations Group.

[FR Doc. 2023-25853 Filed 11-22-23; 8:45 am]

BILLING CODE 4910-13-P